DEPARTMENT OF VETERANS AFFAIRS

Joint Biomedical Laboratory Research and Development and Clinical Science Research and Development Services Scientific Merit Review Board; Notice of Meetings—November 2015

The Department of Veterans Affairs (VA) gives notice under the Federal Advisory Committee Act 5 U.S.C. App. 2 that the subcommittees of the Joint Biomedical Laboratory Research and Development and Clinical Science Research and Development Services Scientific Merit Review Board (JBL/CS SMRB) will meet from 8 a.m. to 5 p.m. on the dates indicated below (unless otherwise listed):

Subcommittee | Date | Location
Surgery | November 18, 2015 | Corporation for Enterprise Development.
Infectious Diseases-B | November 19, 2015 | American College of Surgeons.
Nephrology | November 19, 2015 | National Postal Museum, Blount Center.
Hematology | November 20, 2015 | VA Central Office.*
Cellular and Molecular Medicine | November 23, 2015 | VA Central Office.
Infectious Diseases-A | November 23, 2015 | US Access Board.
The addresses of the meeting sites are:
American College of Surgeons, 20 F Street NE., Washington, DC.
Corporation for Enterprise Development, 1200 G Street NW., Suite 400, Washington, DC.
National Postal Museum, Blount Center, 2 Massachusetts Avenue NE., Washington, DC.
US Access Board, 1331 F Street NW., Suite 1000, Washington, DC.
VA Central Office, 1100 First Street NE., Suite 600, Washington, DC.
* Teleconference.

The purpose of the subcommittees is to provide advice on the scientific quality, budget, safety and mission relevance of investigator-initiated research proposals submitted for VA merit review evaluation. Proposals submitted for review include diverse medical specialties within the general areas of biomedical, behavioral, and clinical science research.

The subcommittee meetings will be closed to the public for the review, discussion, and evaluation of initial and renewal research proposals. However, the JBL/CS SMRB teleconference meeting will be open to the public; date, time and location will be announced later.

The closed subcommittee meetings involve discussion, examination, and reference to staff and consultant critiques of research proposals. Discussions will deal with scientific merit of each proposal and qualifications of personnel conducting the studies, the disclosure of which would constitute a clearly unwarranted invasion of personal privacy. Additionally, premature disclosure of research information could significantly frustrate implementation of proposed agency action regarding the research proposals. As provided by subsection 10(d) of Public Law 92-463, as amended by Public Law 94-409, closing the subcommittee meetings is in accordance with title 5 U.S.C. 552b(c) (6) and (9)(B).

Those who would like to obtain a copy of the minutes from the closed subcommittee meetings and rosters of the subcommittee members should contact Alex Chiu, Ph.D., Manager, Merit Review Program (10P9B), Department of Veterans Affairs, 810 Vermont Avenue NW., Washington, DC 20420, at (202) 443-5672 or email at alex.chiu@va.gov.

Dated: October 22, 2015.
Rebecca Schiller,
Advisory Committee Management Officer.

[FR Doc. 2015-27254 Filed 10-26-15; 8:45 am]

BILLING CODE 8320-01-P